NATIONAL AERONAUTICS AND SPACE ADMINISTRATION

[Notice: (21-081)]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for soliciting, from the aeronautics community and other persons, research and technical information relevant to program planning.

DATES: Wednesday, December 15, 2021, 2:15 p.m.-6:00 p.m., Eastern Time.

ADDRESSES: Virtual Meeting via WebEx and Toll-Free telephone only.

FOR FURTHER INFORMATION CONTACT: Ms. Irma Rodriguez, Designated Federal Officer, Aeronautics Research Mission Directorate, NASA Headquarters, Washington, DC 20546, (202) 527-4826, or irma.c.rodriguez@nasa.gov.

SUPPLEMENTARY INFORMATION: As noted above, this meeting is only available by WebEx. The WebEx link is: https://nasaenterprise.webex.com/nasaenterprise/j.php?MTID=m24baf0b25e3c10cbd7eb3114cfa38dde, the meeting number is 2764 562 7239, and the password is GQsJudx?776 (case sensitive). You can also dial in by phone toll-free: 800-369-1712 passcode: 7303690. The agenda for the meeting includes the following topics:

—Aeronautics Research Mission Directorate (ARMD) FY22 Budget Overview

—ARMD Programs Overview

It is imperative that the meeting be held on this date to accommodate the scheduling priorities of the key participants.

Patricia Rausch,
Advisory Committee Management Officer, National Aeronautics and Space Administration.

[FR Doc. 2021-25567 Filed 11-22-21; 8:45 am]

BILLING CODE 7510-13-P